DEPARTMENT OF HEALTH AND HUMAN SERVICES

Centers for Medicare & Medicaid Services

42 CFR Parts 412 and 413

[CMS-1498-CN]

RIN 0938-AP80

Medicare Program; Supplemental Proposed Changes to the Hospital Inpatient Prospective Payment Systems for Acute Care Hospitals and the Long-Term Care Hospital Prospective Payment System and Supplemental Proposed Fiscal Year 2011 Rates; Correction

AGENCY: Centers for Medicare & Medicaid Services (CMS), HHS.

ACTION: Correction of proposed rule.

SUMMARY: This document corrects technical errors that appeared in the supplementary proposed rule entitled “Medicare Program; Supplemental Proposed Changes to the Hospital Inpatient Prospective Payment Systems for Acute Care Hospitals and the Long-Term Care Hospital Prospective Payment System and Supplemental Proposed Fiscal Year 2011 Rates” which was filed for public inspection on May 21, 2010.

DATES: The comment period for the proposed rule FR Doc. No. 2010-12567, published elsewhere in this issue, is corrected to close June 18, 2010.

FOR FURTHER INFORMATION CONTACT: Tzvi Hefter, (410) 786-4487.

SUPPLEMENTARY INFORMATION:

I. Background

In FR Doc. 2010-12567 filed May 21, 2010, there are technical and typographical errors that are identified and corrected in the Correction of Errors section below.

II. Summary of Errors

In the DATES section, we inadvertently requested that the Office of the Federal Register base the comment period closing date on the date of publication of the proposed rule. In the waiver section of the proposed rule, we indicated that “we are waiving the 60-day comment period for good cause and allowing a comment period that coincides with the comment period provided for on the FY 2011 IPPS/LTCH PPS proposed rule (75 FR 23852).” Therefore, in section III. of this correction notice, we correct this error by inserting the date that the comment period closes to coincide with the date that the comment period closes for the FY 2011 IPPS/LTCH PPS proposed rule, which is June 18, 2010.

III. Correction of Errors

In FR Doc. 2010-12567 filed May 21, 2010, make the following correction:

1. In the DATES section, the date “July 2, 2010” is corrected to read “June 18, 2010.”

IV. Waiver of 60-Day Comment Period

We ordinarily permit a 60-day comment period on notices of proposed rulemaking in the Federal Register, as provided in section 1871(b)(1) of the Act. However, this period may be shortened, as provided under section 1871(b)(2)(C) of the Act, when the Secretary finds good cause that a 60-day comment period would be impracticable, unnecessary, or contrary to the public interest and incorporates a statement of the finding and its reasons in the rule issued.

The changes made by this correction notice do not constitute agency rulemaking, and therefore the 60-day comment period does not apply. This correction notice merely corrects typographical and technical errors in FY 2011 IPPS/LTCH PPS supplemental proposed rule and does not make substantive changes to either that proposed rule or the first FY 2011 IPPS/LTCH PPS proposed rule appearing in the May 4, 2010 Federal Register that would require additional time on which to comment. Instead, this correction notice is intended to ensure the accuracy of the FY 2011 IPPS/LTCH PPS supplemental proposed rule.

We further note that this document makes corrections to a supplemental proposed rule for which the Secretary has found good cause to shorten the required 60-day comment period; we refer readers to section III.B. of the FY 2011 IPPS/LTCH PPS supplemental proposed rule for additional discussion on that point. Therefore, to the extent that the 60-day comment period does apply, we find that good cause to shorten that period for the reasons set forth above, as well as for the reasons articulated in section III.B. of the FY 2011 IPPS/LTCH PPS supplemental proposed rule.

(Catalog of Federal Domestic Assistance Program No. 93.773, Medicare—Hospital Insurance; and Program No. 93.774, Medicare—Supplementary Medical Insurance Program)

Dated: May 28, 2010.
Ashley Files Flory,
Deputy Executive Secretary to the Department.

[FR Doc. 2010-13405 Filed 5-28-10; 4:15 pm]

BILLING CODE 4120-01-P